DEPARTMENT OF DEFENSE

Defense Acquisition Regulations System

48 CFR Part 233

RIN 0750-AE01

Defense Federal Acquisition Regulation Supplement; Protests, Disputes, and Appeals (DFARS Case 2003-D010)

AGENCY: Defense Acquisition Regulations System, Department of Defense (DoD).

ACTION: Final rule.

SUMMARY: DoD has issued a final rule amending the Defense Federal Acquisition Regulation Supplement (DFARS) to update text addressing procedures for processing of contractor claims submitted under DoD contracts. The rule removes obsolete text and relocates text to the DFARS companion resource, Procedures, Guidance, and Information.

EFFECTIVE DATE: February 12, 2007.

FOR FURTHER INFORMATION CONTACT: Ms. Felisha Hitt, Defense Acquisition Regulations System, OUSD(AT&L)DPAP(DARS), IMD 3C132, 3062 Defense Pentagon, Washington, DC 20301-3062. Telephone (703) 602-0310; facsimile (703) 602-0350. Please cite DFARS Case 2003-D010.

SUPPLEMENTARY INFORMATION:

A. Background

This final rule—

• Removes text at DFARS 233.204 regarding research of a contractor's history of filing claims during a contracting officer's review of a current claim. Text on this subject has been relocated to the DFARS companion resource, Procedures, Guidance, and Information (PGI) at http://www.acq.osd.mil/dpap/dars/pgi; and

• Revises DFARS 233.210 to remove an obsolete cross-reference and to add a reference to the guidance added to PGI regarding review of a contractor's claim.

DoD published a proposed rule at 71 FR 34867 on June 16, 2006. The proposed rule had provided for total elimination of the text at DFARS 233.204 and 233.210. One source submitted comments on the proposed rule, recommending that, instead of total elimination, the text at DFARS 233.204 should be relocated to PGI. DoD has adopted this recommendation and has included the corresponding changes in the final rule.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule makes no significant change to DoD policy regarding consideration of claims submitted by contractors.

C. Paperwork Reduction Act

The Paperwork Reduction Act does not apply, because the rule does not impose any information collection requirements that require the approval of the Office of Management and Budget under 44 U.S.C. 3501, et seq.

List of Subjects in 48 CFR Part 233

Government procurement.

Michele P. Peterson,
Editor, Defense Acquisition Regulations System.

Therefore, 48 CFR Part 233 is amended as follows:

PART 233—PROTESTS, DISPUTES, AND APPEALS

1. The authority citation for 48 CFR Part 233 continues to read as follows:

Authority: 41 U.S.C. 421 and 48 CFR Chapter 1.

233.204 [Removed]

2. Section 233.204 is removed.

3. Section 233.210 is revised to read as follows:

233.210 Contracting officer's authority.

See PGI 233.210 for guidance on reviewing a contractor's claim.

[FR Doc. E7-2211 Filed 2-9-07; 8:45 am]

BILLING CODE 5001-08-P